DEPARTMENT OF HEALTH AND HUMAN SERVICES

National Institutes of Health

Proposed Collection; Comment Request; National Cancer Institute Science Enrichment Program Surveys

Summary: In compliance with the requirement of section 3506(c)(2)(A) of the Paperwork Reduction Act of 1995, for opportunity for public comment on proposed data collection projects, the National Cancer Institute (NCI), the National Institutes of Health (NIH) will publish periodic summaries of proposed projects to be submitted to the Office of Management and Budget (OMB) for review and approval.

Proposed Collection

Title: NCI Science Enrichment Program (SEP) Surveys.

Type of Information Collection Request: New.

Need and Use of Information Collection: NCI SEP is a 5-week summer residential program on university campuses that serves under-represented minority and under-served students who have just completed ninth grade.

The program goals are to: (1) Encourage student participants to select careers in science, mathematics, and/or research, and (2) broaden and enrich students' science, research, and sociocultural backgrounds. The proposed data collection encompasses three surveys: (1) A follow-up survey of SEP and control group students who participated in a five-year longitudinal evaluation of the program conducted between 1998 and 2003; (2) a post-program survey of parents of SEP 2004 participants; and (3) a follow-up survey of SEP 1990-1997 alumni. The information from the proposed data collection will supplement previous evaluation results, which have been and will continue to be used to judge program process and outcomes.

Frequency of Response: One time.

Affected Public: Individuals or households.

Type of Respondents: High school and college students, young adults, and parents of high school students participating in the program.

Cost to Respondents: $4,070.

The annual reporting burden is as follows:

Estimates of Hour Burden: Burden Requested
Type of respondents | Average number of respondents/Yr. | Frequency of response | Average time per response | Average annual hour burden
SEP Participants | 600 | 1 | 0.25 | 150
Control Group Students | 300 | 1 | 0.25 | 75
Parents of SEP Participants | 100 | 1 | 0.25 | 25
SEP 1990-1997 Alumni | 627 | 1 | 0.25 | 157
Total | 1,627 |  |  | 407

There are no Capitol Costs, Operating Costs, and/or Maintenance Costs to report.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

For Further Information Contact: To request more information on the proposed project or to obtain a copy of the data collection plans and instruments, contact Mr. Frank Jackson, Center to Reduce Cancer Health Disparities, National Cancer Institute, National Institutes of Health, 6116 Executive Boulevard, Suite 602, Rockville, MD 20852, or call non-toll-free number (301) 496-8589, or E-mail your request, including your address to: fj12i@nih.gov.

Comments Due Date: Comments regarding this information collection are best assured of having their full effect if received within 60 days of this publication.

Dated: September 29, 2003.
Reesa Nichols,
NCI Project Clearance Liaison.

[FR Doc. 03-25294 Filed 10-6-03; 8:45 am]

BILLING CODE 4140-01-M